DEPARTMENT OF ENERGY

Federal Energy Regulatory Commission

[Docket Nos. CP18-37-000 and CP18-38-000]

Sierrita Gas Pipeline LLC; Notice of Schedule for Environmental Review of the Sierrita Compressor Expansion Project

On December 21, 2017, Sierrita Gas Pipeline LLC (Sierrita) filed an application in Docket No. CP18-37-000 requesting a Certificate of Public Convenience and Necessity pursuant to Section 7(c) of the Natural Gas Act to construct and operate certain natural gas pipeline facilities. Additionally, in Docket No. CP18-38-000, Sierrita is requesting an amendment to its Section 3 authorization and its Presidential Permit. The proposed project is known as the Sierrita Compressor Expansion Project (Project), in which Sierrita would increase the design capacity of existing Line No. 2177 to 627,000,000 cubic feet per day at its border crossing into Mexico in Pima County, Arizona.

On January 5, 2018, the Federal Energy Regulatory Commission (Commission or FERC) issued its Notice of Applications for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—June 13, 2018

90-Day Federal Authorization Decision Deadline—September 11, 2018

If a schedule change becomes necessary, additional notice will be provided so that the relevant agencies are kept informed of the Project's progress.

Project Description

Sierrita proposes to construct in Pima County, Arizona one 15,900 horsepower compressor station, suction and discharge piping, and ancillary facilities on its existing Line No. 2177; one 10-inch meter at its existing San Joaquin Meter Station; as well as relocate an existing mainline valve and pipeline inspection tool.

Background

On February 2, 2018, the Commission issued a Notice of Intent to Prepare an Environmental Assessment for the Proposed Sierrita Compressor Expansion Project and Request for Comments on Environmental Issues (NOI). The NOI was sent to affected landowners; federal, state, and local government agencies; elected officials; environmental and public interest groups; Native American tribes; other interested parties; and local libraries and newspapers. In response to the NOI, the Commission received comments from Pima County (Office of Sustainability & Conservation, the Regional Flood Control District, the Development Services Department, and the Regional Wastewater Reclamation Department); the Altar Valley Conservation Alliance; and the U.S. Environmental Protection Agency. The primary issues raised by the commentors regarded purpose and need, alternatives, pipeline safety, water resources, air quality, biological resources and invasive species, hazardous materials, cultural resources, cumulative impacts, restoration and post-construction monitoring, outdoor lighting, and impacts on existing utility lines.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-37), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 1, 2018.
Kimberly D. Bose,
Secretary.

[FR Doc. 2018-09718 Filed 5-7-18; 8:45 am]

BILLING CODE 6717-01-P